DEPARTMENT OF ENERGY

Federal Energy Regulatory Commission

[Project No. 803-068—California]

Pacific Gas and Electric Company; Notice of Intent To File License Application, Filing of Pre-Application Document (Pad), Solicitation of Comments on the Pad and Scoping Document, Solicitation of Study Requests, and Commencement of Proceeding

December 3, 2004.

a. Type of Filing: Notice of intent to file a license application and pre-filing document (PAD) under the Commission's integrated licensing process and commencing licensing proceeding.

b. Project No.: 803-068.

c. Date Filed: October 4, 2004.

d. Filed By: Pacific Gas and Electric Company.

e. Project Name: DeSabla-Centerville Hydroelectric Project.

f. Location: On the Butte Creek and West Branch Feather River, in Butte County, California. The project occupies approximately 178 acres of United States Lands, managed by Forest Service and Bureau of Land Management.

g. Filed Pursuant to: 18 CFR part 5 of the Commission's regulations.

h. Pacific Gas and Electric Company Contact: Randal Livingston, Senior Director, Power Generation, Pacific Gas and Electric Company, 245 Market, Room 1103 (N11E), P.O. Box 770000, San Francisco, CA 94177; (415) 973-6950, facsimile (415) 973-5323.

i. FERC Contact: Susan O'Brien at (202) 502-8449 or e-mail at susan.obrien@ferc.gov.

j. We are asking Federal, State, local, and tribal agencies with jurisdiction and/or special expertise with respect to environmental issues to cooperate with us in the preparation of an environmental document for this project. Agencies wanting cooperating agency status should follow the filing instructions described in paragraph p below.

k. With this notice, we are initiating informal consultation with: (1) The U.S. Fish and Wildlife Service and/or NOAA Fisheries under section 7 of the Endangered Species Act and the joint agency regulations thereunder at 50 CFR 402, and (2) the State Historic Preservation Officer, as required by section 106, National Historical Preservation Act, and the implementing regulations of the Advisory Council on Historic Preservation at 36 CFR 800.2.

l. We are designating Pacific Gas and Electric Company as the Commission's non-Federal representative for carrying out informal consultation pursuant to section 7 of the Endangered Species Act and Section 106 of the National Historic Preservation Act.

m. Pacific Gas and Electric Company filed a Pre-Application Document (PAD) including a proposed process plan and schedule with the Commission, pursuant to 18 CFR 5.6 of the Commission's regulations on October 4, 2004.

n. A copy of the PAD is available for review at the Commission in the Public Reference Room or may be viewed on the Commission's Web site http://www.ferc.gov using the “eLibrary” link. Enter the docket number, excluding the last three digits in the docket number field to access the document. For assistance, contact FERC Online Support at FERCOnlineSupport@ferc.gov or toll free at (866) 208-3676, or for TTY, (202) 502-8659. A copy is also available for inspection and reproduction at the address in paragraph h.

Register online at http://www.ferc.gov/esubscribenow.htm to be notified via e-mail of new filings and issuances related to this or other Commission projects. For assistance, contact FERC Online Support.

o. We issued the Scoping Document 1 (SD1) for this project on October 20, 2004, which describes the alternatives and issues to be addressed in our environmental document. Scoping meetings for this project were conducted on November 17-18, 2004, in Chico, CA. Copies of the SD1 and transcripts ¹ of the scoping meetings are available for review at the Commission in the Public Reference Room or may be viewed on the Commission's Web site http://www.ferc.gov using the “eLibrary” link as described in item n above. SD1 was also mailed to all entities on the Commission's mailing list for this project and was available at the Commission's scoping meetings. Commission staff will prepare a Scoping Document 2 (SD2) by March 18, 2005. The SD2 will include a complete list of issues identified through the scoping process and a revised process plan and schedule.

¹ Transcripts of the scoping meetings will be made available to the public through the Commission's Web site after December 7, 2004.

p. With this notice, we are soliciting comments on the PAD and SD1, as well as study requests. All comments on the PAD and SD1, study requests, requests for cooperating agency status, and all communications to and from Commission staff related to the merits of the potential application must be filed with the Commission (original and eight copies) at the following address: The Secretary, Federal Energy Regulatory Commission, 888 First Street, NE., Washington, DC 20426. All filings with the Commission must include on the first page, the project name (DeSabla-Centerville Hydroelectric Project) and number (P-803-068), and bear the heading “Comments on Pre-Application Document,” “Study Requests,” “Comments on Scoping Document 1,” “Request for Cooperating Agency Status,” or “Communications to and from Commission Staff.” Any individual or entity interested in submitting study requests, commenting on the PAD or SD1, and any agency requesting cooperating status must do so by February 1, 2005.

All study requests must address the seven criteria, pursuant to 18 CFR 5.9(b) of the Commission's regulations.

Comments on the PAD and SD1, study requests, requests for cooperating agency status, and other permissible forms of communications with the Commission may be filed electronically via the Internet in lieu of paper. The Commission strongly encourages electronic filings. See 18 CFR 385.2001(a)(1)(iii) and the instructions on the Commission's Web site http://www.ferc.gov under the “e-filing” link.

q. At this time, the Commission intends to prepare a draft and final Environmental Assessment for the project in accordance with the National Environmental Policy Act.

r. Pacific Gas and Electric Company intends to hold a multi-day study plan workshop for all interested individuals and entities in Chico, CA on January 6-7 and 10-11, 2005 (location and times to be determined). Please contact Susan O'Brien, in paragraph i above, if you need further information.

Magalie R. Salas,
Secretary.

[FR Doc. E4-3684 Filed 12-16-04; 8:45 am]

BILLING CODE 6717-01-P